FEDERAL COMMUNICATIONS COMMISSION

47 CFR Parts 73 and 76

[MM Docket No. 98-204, DA 02-400]

Revision of Broadcast and Cable EEO Rules and Policies

AGENCY: Federal Communications Commission.

ACTION: Proposed rule; extension of comment and reply comment period.

SUMMARY: In this document, the Mass Media Bureau (Bureau) partially grants a motion for procedural relief filed by the Minority Media and Telecommunications Council (MMTC) related to proposed rules on new broadcast and cable Equal Employment Opportunity rules and policies. The intended effect is to grant an extension of the comment and reply comments filing deadline and to clarify that the Commission will consider comments previously filed in this docket.

DATES: Comments are due April 15, 2002, and reply comments due May 15, 2002.

ADDRESSES: Federal Communications Commission, Office of the Secretary, 445 12th Street, SW., Washington, DC 20554.

FOR FURTHER INFORMATION CONTACT: Lewis Pulley, EEO Staff, Mass Media Bureau. (202) 418-1450.

SUPPLEMENTARY INFORMATION: 1. This is a synopsis of the Mass Media Bureau's Review of the Commission's Broadcast and Cable Equal Employment Opportunity Rules and Policies, DA 02-400, released February 22, 2002. On December 21, 2001, the Commission released a Second Notice of Proposed Rule Making, MM Docket No. 98-204, 67 FR 1704 (January 14, 2002) (Second NPRM) requesting comment on various proposals concerning the Commission's broadcast and cable EEO rules and policies. Comment and reply comment deadlines were established for March 15, 2002, and April 15, 2002, respectively.

2. On January 29, 2002, MMTC filed a Motion for Procedural Relief requesting: an extension of time for the filing dates for comments and reply comments; a draft of specified proposed rules; and a clarification that comments filed in the docket prior to the Second NPRM will be treated as part of the continuing record in this proceeding.

3. MMTC requests that the Commission extend the comment and reply comment deadlines to April 28, 2002, and May 28, 2002, respectively. Because the Bureau believes that the public interest would be served by an extension of the comment period in this proceeding, we partially grant MMTC's request and extend the date for filing comments to April 15, 2002, and extend the date for filing reply comments to May 15, 2002.

4. The Bureau denies MMTC's request that we issue a draft of specific proposed rules. In releasing the Second NPRM, the Commission complied with § 1.413(c) of the Commission's rules, 47 CFR 1.413(c), which indicates that a notice of proposed rule making shall contain “[e]ither the terms or substance of the proposed rule or a description of the subjects and issues involved.” Further, MMTC's request conflicts with the Commission's intent to elicit comprehensive comments in this proceeding without limiting the scope of comments to any specified proposal.

5. The Bureau grants MMTC's request that the Commission consider all material placed in the docket at earlier stages of this proceeding as part of the record in the proceedings held pursuant to the Second NPRM. We acknowledge MMTC's concern that parties be able to conserve resources by avoiding the need to refile material they previously submitted to the Commission. The Bureau asks that such parties identify the comments, sections and pages upon which they wish to rely, and that they summarize such material in their comments filed in response to the Second NPRM.

6. Accordingly, It is ordered that the Motion for Procedural Relief filed by MMTC is granted in part and denied in part.

7. It is therefore ordered that the date for filing comments and reply comments in this proceeding is extended to April 15, 2002, and May 15, 2002, respectively.

8. This action is taken pursuant to authority found in sections 4(i) and 303(r) of the Communications Act of 1934, as amended, 47 U.S.C. 4(i) and 303(r), and §§ 0.204(b), 0.283 and 1.46 of the Commission's rules, 47 CFR 0.204(b), 0.283 and 1.46.

Federal Communications Commission.
Roy J. Stewart,
Chief, Mass Media Bureau.

[FR Doc. 02-5380 Filed 3-7-02; 8:45 am]

BILLING CODE 6712-01-U